DEPARTMENT OF COMMERCE

National Oceanic and Atmospheric Administration

RIN 0648-XD702

Gulf of Mexico Fishery Management Council (Council); Public Meeting

AGENCY: National Marine Fisheries Service (NMFS), National Oceanic and Atmospheric Administration (NOAA), Commerce.

ACTION: Notice of public meeting of the Gulf of Mexico Fishery Management Council.

SUMMARY: The Gulf of Mexico Fishery Management Council (Council) will hold meetings of the: Administrative Policy, Data Collection, Reef Fish, Mackerel and Gulf SEDAR Management Committees; in conjunction with a meeting of the Full Council. The Council will also hold a formal public comment session.

DATES: The Council meeting will convene 8:30 a.m. on Monday, January 26 and adjourn 4 p.m. on Thursday, January 29, 2015.

ADDRESSES: Meeting address: The meeting will be held at the Grand Hotel Marriott, located at One Grand Boulevard, Point Clear, AL 36564; telephone: (251) 928-9201.

Council address: Gulf of Mexico Fishery Management Council, 2203 North Lois Avenue, Suite 1100, Tampa, FL 33607.

FOR FURTHER INFORMATION CONTACT: Mr. Douglas Gregory, Executive Director, Gulf of Mexico Fishery Management Council; telephone: (813) 348-1630; fax: (813) 348-1711; email: doug.gregory@gulfcouncil.org

SUPPLEMENTARY INFORMATION: The items of discussion for each individual management committee agenda are as follows:

Administrative Policy Committee Agenda, Monday, January 26, 2015, 8:30 a.m. until 10:30 a.m.:

• Update on Advisory Panel (AP) and Scientific and Statistical Committee (SSC) Appointment Process and Structure

• Review of NMFS/NOAA Comments on 2012 Standard Operating Policies and Procedures (SOPPs)

Data Collection Committee Agenda, Monday, January 26, 2015, 10:30 a.m. until 12 noon:

• Discussion of Technical Subcommittee for Electronic Charter Boat Reporting Recommendations

• Review and Discussion of Marine Recreational Information Program (MRIP) Calibration

• Review and Discussion of MRIP Red Snapper Workshop

• Electronic Monitoring/Electronic Reporting Implementation Plan

—Recess—

Reef Fish Management Committee Agenda, Monday, January 26, 2015, 1:30 p.m. until 5:30 p.m.:

• Review of Red Snapper Update Assessment

• Reevaluation of Gag Overfishing Limits (OFL) and Acceptable Biological Catch (ABC) for 2015-16

• Review of Mutton Snapper Update Assessment

• Review of Draft Amendment 39—Red Snapper Recreational Regional Management

• Review of Revised Public Hearing Draft Amendment 28—Red Snapper Allocation

• Review of Greater Amberjack Draft Framework Action

• Report of the Ad Hoc For-hire Red Snapper AP

• Final Action—Framework Action to Adjust Recreational For-Hire Red Snapper Management Measures

• Review of Options Paper to Update Minimum Stock Size Threshold for Reef Fish Stocks with Low Natural Mortality

• Discussion of Red Snapper Poaching by Mexican Lanchas

—Recess—

Reef Fish Management Committee Agenda, Tuesday, January 27, 2015, 8:30 a.m. until 5:30 p.m.:

• Continuation of the previous day's agenda

—Recess—

Immediately following committee recess Dr. Crabtree will hold a Red Snapper Update and Question & Answer Session.

Mackerel Management Committee Agenda, Wednesday, January 28, 2015, 8:30 a.m. until 11:30 a.m.:

• Discussion of Coastal Migratory Pelagics Amendment Renumbering

• Review of SEDAR 38—Gulf of Mexico and South Atlantic King Mackerel Stock Assessment Report

• Review of Coastal Migratory Pelagics Amendment 24 Scoping Document—South Atlantic Spanish Mackerel Allocations

• Review of Coastal Migratory Pelagics Amendment 26 Scoping Document—Gulf of Mexico and South Atlantic King Mackerel Allocations and Mixing Zone Delineation

• Review of Coastal Migratory Pelagics Amendment 28 Scoping Document—Gulf of Mexico and South Atlantic King and Spanish Mackerel Permit Split

• Discussion of Gulf of Mexico King Mackerel Gill Net Fishery Issues

Gulf SEDAR Management Committee Agenda, Wednesday, January 28, 2015, 11:30 a.m. until 12 noon:

• Review of SEDAR Schedule

—Recess—

Council Session Agenda, Wednesday, January 28, 2015, 1:30 p.m. until 5:30 p.m.:

1:30 p.m.-1:40 p.m.: Call to Order and Introductions, Adoption of Agenda and Approval of Minutes

1:40 p.m.-1:50 p.m.: The Council will receive an update on Red Drum

1:50 p.m.-2:50 p.m.: The Council will receive a briefing regarding the NOAA Fisheries Climate Science Strategy and discuss Council Member SEDAR Workshop for June 2015.

—Recess—

3 p.m.-5:30 p.m.: The Council will receive public testimony on Final Action—Framework Action to Adjust Recreational For-hire Red Snapper Management Measures and Revised Public Hearing Draft Amendment 28—Red Snapper Allocation; and open public comment period regarding other fishery issues or concerns. People wishing to speak before the Council should complete a public comment card prior to the comment period.

—Recess—

Council Session Agenda, Thursday, January 29, 2015, 8:30 a.m. until 4 p.m.:

8:30 a.m.-11:30 a.m.: The Council will receive a committee report from the Reef Fish Management Committee

1 p.m.-3:30 p.m.: The Council will receive committee reports from the Data Collection Management Committee, Gulf SEDAR Management Committee, Administrative Policy Committee and Mackerel Management Committee.

3:30 p.m.-4 p.m.: The Council will review Other Business items: Financial Disclosure Requirements.

—Adjourn—

The Agenda is subject to change, and the latest version will be posted on the Council's file server, which can be accessed by going to the Council Web site at http://www.gulfcouncil.org and clicking on FTP Server under Quick Links. For meeting materials see folder “Briefing Books/Briefing Book 2015-01” on Gulf Council file server. The username and password are both “gulfguest”. The meetings will be webcast over the internet. A link to the webcast will be available on the Council's Web site, http://www.gulfcouncil.org.

Although non-emergency issues not contained in this agenda may come before this group for discussion, those issues may not be the subject of formal action during these meetings. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Kathy Pereira at the Council Office (see ADDRESSES), at least 5 working days prior to the meeting.

Note: The times and sequence specified in this agenda are subject to change.

Authority: 16 U.S.C. 1801 et seq.

Dated: January 6, 2015.
Tracey L. Thompson,
Acting Deputy Director, Office of Sustainable Fisheries, National Marine Fisheries Service.

[FR Doc. 2015-00148 Filed 1-8-15; 8:45 am]

BILLING CODE 3510-22-P